DEPARTMENT OF DEFENSE

Department of the Army, Corps of Engineers

Intent To Prepare a Draft Environmental Impact Statement for the `Īao Stream Flood Control Project, Wailuku, Maui, HI

AGENCY: Department of the Army, U.S. Army Corps of Engineers, DoD.

ACTION: Notice of intent.

SUMMARY: Pursuant to Section 102(2)(C) of the National Environmental Policy Act (NEPA) of 1969, as amended, the U.S. Army Corps of Engineers (USACE) gives notice that a joint Environmental Impact Statement (EIS) is being prepared for the proposed action to correct a design deficiency in the existing `Īao Stream Flood Control Project, Wailuku, Maui, HI. This effort is being proposed under Section 203 of the Flood Control Act of 1968 (Pub. L. 90-483) and is necessary to provide the authorized level of reduced flood risk to the town of Wailuku. The County of Maui, Department of Public Works (DPW) is the non-Federal sponsor and the lead agency for compliance with the Hawai`i law on Environmental Impact Statements.

DATES: Comments and suggestions on the scope of issues to be addressed in the Draft EIS (DEIS) should be received on or before May 9, 2011.

ADDRESSES: Send written comments to the U.S. Army Corps of Engineers, Honolulu District, ATTN: Nani Shimabuku, Project Manager, Civil and Public Works Branch (CEPOH-PP-C), Building 230, Fort Shafter, HI 96858-5440. Submit electronic comments to iaostreameis@usace.army.mil.

FOR FURTHER INFORMATION CONTACT: Further information is available on the Web site for the proposed action at http://www.iaostreameis.com or from Ms. Nani Shimabuku, Project Manager, Telephone: (808) 438-2940, E-mail: iaostreameis@usace.army.mil.

SUPPLEMENTARY INFORMATION: 1. Proposed Action. The existing `Īao Stream Flood Control Project includes a debris basin, diversion levees, and channel improvements along the lower 2.5 miles of the `Īao Stream in Wailuku, Maui, and drains an area of approximately 10 square miles. The existing project was designed to provide the town of Wailuku with protection against a 222-year flood (0.5% chance of flooding in any given year). Since the existing project was completed in 1981, numerous storm events involving high velocity flows within the steeply sloped channel have resulted in major erosion of the streambed, undermining the banks and the levees. The proposed action would correct the design deficiencies in the existing project in order to provide the authorized level of reduced flood risk.

2. Alternatives. In March 2009, USACE released a draft Environmental Assessment (DEA) that analyzed several alternatives to address the existing project's design deficiencies. During the public comment period, the public, resource agencies, and stakeholders raised concerns over potential indirect and cumulative significant impacts associated with impairment of groundwater recharge, sediment loading impacts to native aquatic species and habitats, and other issues. Based on these comments, USACE decided to prepare an EIS. The EIS will expand the alternatives analysis in the DEA to consider a full range of structural and nonstructural flood risk management alternatives that meet the proposed action's purpose and need and incorporate measures to avoid and minimize impacts to native aquatic species, stream habitat, and other resources. Design features currently under consideration include, but are not limited to, the incorporation of a roller-compacted channel design with low-flow invert; grade control structures; stilling basin areas; groundwater infiltration areas; natural erosion protection measures; and pooling areas to support native aquatic species.

3. Scoping and Public Involvement. As part of the scoping process, all affected Federal, State, and local agencies, Native Hawaiian organizations, private organizations, and the public are invited to comment on the scope of the EIS.

Since a comprehensive public review process was completed in association with the DEA for the proposed action, the EIS scoping process will not include a formal public scoping meeting. The public comments submitted on the DEA have been compiled and will be considered during the development of the EIS. A summary of those comments is available on the Web site for the proposed action at http://www.iaostreameis.com. Any additional comments received will be considered along with those already summarized. To be most helpful, comments should clearly describe specific environmental topics or issues which the commenter believes the document should address.

4. Other Environmental Review Requirements. To the extent practicable, NEPA and HRS Chapter 343 requirements will be coordinated in the preparation of the EIS. Consistent with Hawai`i Revised Statutes (HRS) Chapter 343, a State EIS Preparation Notice (EISPN) will be published concurrently.

5. Availability. The DEIS is currently scheduled to be available for public review and comment in the summer of 2012.

Brenda S. Bowen,
Army Federal Register Liaison Officer.

[FR Doc. 2011-7735 Filed 4-7-11; 8:45 am]

BILLING CODE 3720-58-P